DEPARTMENT OF ENERGY

Federal Energy Regulatory Commission

[Docket No. RM04-9-000]

Electronic Notification of Commission Issuances; Notice That the Commission Secretary Will End Duplicate Paper Service of Commission Issuances

June 17, 2005.

Take notice that on June 21, 2005, the Secretary of the Commission will no longer send paper copies of Commission issuances to persons who receive electronic service of those documents. The Commission indicated in Order No. 653, issued February 10, 2005, that “in the early stages of the eService system, the Secretary will continue to send copies of Commission issuances by postal mail. This will continue for three months from the time this Final Rule becomes effective, after which notification will be solely by e-mail to contacts who are fully eRegistered, unless a waiver or exemption applies.” Electronic Notification of Commission Issuances, 110 FERC ¶ 61,110 (2005); order on reh'g, 111 FERC ¶ 61,021 (2005). The three-month period ends June 21.

The Commission encourages any party intervening in Commission proceedings to ensure that all contacts for the party and for a law firm that may represent the party have created and validated eRegistration accounts. The eFiling system allows persons filing a motion to intervene to specify all of the parties to the motion and all representatives and other contacts for the parties.

Contacts for entities filing applications, petitions, or requests with the Commission should also have validated eRegistration accounts even if the application, petition, or request itself cannot be submitted to the Commission electronically. This will enable the Commission's Registry staff to select the eRegistration account for each contact so that the contact's e-mail address will appear on the service list.

All persons with eRegistration accounts should maintain those accounts to reflect current address and other information. If an account holder's e-mail address changes, and the account holder wants to preserve links to existing service lists and eSubscriptions, then that person should edit the e-mail address in the existing account instead of creating a new account. Persons should create new accounts only when, as a result of a move to another company or firm, there is no need to preserve links to service lists and eSubscriptions linked to the previous account.

For additional guidance on using FERC Online procedures for eRegistration, eFiling, and eService, refer to FERC Online Guidelines at http://www.ferc.gov/docs-filing/fol-guidelines.pdf.

Magalie R. Salas,
Secretary.

[FR Doc. E5-3289 Filed 6-23-05; 8:45 am]

BILLING CODE 6717-01-P